DEPARTMENT OF STATE

[Public Notice 8040]

Persons on Whom Sanctions Have Been Imposed Under the Iran Sanctions Act of 1996

AGENCY: Bureau of Economic and Business Affairs, Department of State.

ACTION: Notice.

SUMMARY: The Secretary of State has determined that the following persons have engaged in sanctionable activity described in section 5(a) of the Iran Sanctions Act of 1996 (Pub. L. 104-172) (50 U.S.C. 1701 note) (“ISA”), as amended by the Comprehensive Iran Sanctions, Accountability, and Divestment Act of 2010 (Pub. L. 111-195) (22 U.S.C. 8501-51) (“CISADA”), and that certain sanctions should be imposed as a result: Sytrol.

DATES: Effective Date: The sanctions on Sytrol are effective August 10, 2012.

FOR FURTHER INFORMATION CONTACT: On general issues: Christopher Backemeyer, Office of Sanction Policy and Implementation, Department of State, Telephone: (202) 647-4322.

For U.S. Government procurement ban issues: Daniel Walt, Office of the Procurement Executive, Department of State, Telephone: (703) 516-1696.

SUPPLEMENTARY INFORMATION: Pursuant to the authority delegated to the Secretary of State in the Presidential Memorandum of September 23, 2010, 75 FR 67025 (the “Delegation Memorandum”), the Secretary has determined that the following persons have engaged in sanctionable activity described in section 5(a) of the ISA, as amended by the CISADA: Sytrol.

Pursuant to section 5(a) of the ISA and the Delegation Memorandum, the Secretary determined to impose on Sytrol the following sanctions described in section 6 of the ISA:

1. Procurement sanction. The United States Government shall not procure, or enter into any contract for the procurement of, any goods or services from Sytrol.

2. Banking transactions. Any transfers of credit or payments between financial institutions or by, through, or to any financial institution, to the extent that such transfers or payments are subject to the jurisdiction of the United States and involve any interest of Sytrol, shall be prohibited.

3. Property transactions. It shall be prohibited to:

a. Acquire, hold, withhold, use, transfer, withdraw, transport, import, or export any property that is subject to the jurisdiction of the United States and with respect to which Sytrol has any interest;

b. Deal in or exercise any right, power, or privilege with respect to such property; or

c. Conduct any transaction involving such property.

Based on the sanctions imposed on Sytrol, these prohibitions also apply with respect to any person in which Sytrol has an interest of fifty percent or more. These sanctions apply with respect to Sytrol and not to any subsidiary, affiliate, or shareholder thereof unless separately identified.

The sanctions described above with respect to Sytrol shall remain in effect until otherwise directed pursuant to the provisions of the ISA or other applicable authority. Pursuant to the authority delegated to the Secretary of State in the Delegation Memorandum, relevant agencies and instrumentalities of the United States Government shall take all appropriate measures within their authority to carry out the provisions of this notice. The Secretary of the Treasury is taking appropriate action to implement the sanctions for which authority has been delegated to the Secretary of the Treasury pursuant to the Delegation Memorandum and Executive Order 13574 of May 23, 2011.

The following constitutes a current, as of this date, list of persons on whom sanctions are imposed under the ISA. The particular sanctions imposed on an individual company are identified in the relevant Federal Register Notice.

—Allvale Maritime Inc. (see Public Notice 7585, 76 FR 56866, September 14, 2011)

—Associated Shipbroking (a.k.a. SAM) (see Public Notice 7585, 76 FR 56866, September 14, 2011)

—Belarusneft (see Public Notice 7408, 76 FR 18821, April 5, 2011)

—FAL Oil Company Limited (see Public Notice 7776, 77 FR 4389, Jan. 27, 2012)

—Kuo Oil (S) Pte. Ltd. (see Public Notice 7776, 77 FR 4389, Jan. 27, 2012)

—Naftiran Intertrade Company (see Public Notice 7197, 75 FR 62916, Oct. 13, 2010)

—Petrochemical Commercial Company International (a.k.a. PCCI) (see Public Notice 7585, 76 FR 56866, September 14, 2011)

—Petróleos de Venezuela S.A. (see Public Notice 7585, 76 FR 56866, September 14, 2011)

—Royal Oyster Group (see Public Notice 7585, 76 FR 56866, September 14, 2011)

—Société Anonyme Monégasque D'Administration Maritime Et Aérienne (a.k.a. S.A.M.A.M.A., a.k.a. SAMAMA) (see Public Notice 7585, 76 FR 56866, September 14, 2011)

—Speedy Ship (a.k.a. SPD) (see Public Notice 7585, 76 FR 56866, September 14, 2011)

—Sytrol

—Tanker Pacific Management (Singapore) Pte. Ltd. (see Public Notice 7585, 76 FR 56866, September 14, 2011)

—Zhuhai Zhenrong Company (see Public Notice 7776, 77 FR 4389, Jan. 27, 2012)

Dated: September 18, 2012.
Deborah A. McCarthy,
Acting Assistant Secretary of State for Economic and Business Affairs.

[FR Doc. 2012-23614 Filed 9-24-12; 8:45 am]

BILLING CODE 4710-07-P